DEPARTMENT OF COMMERCE

Information and Communications Technology; Business Development Mission

AGENCY: Department of Commerce.

ACTION: Notice.

SUMMARY: The Department of Commerce invites U.S. companies to participate in the overseas Business Development Mission described below. For a more complete description of the mission, obtain a copy of the mission statement from the contact officer indicated below.

Undersecretarial Business Development Mission, Belfast, Northern Ireland and Dublin, Republic of Ireland, November 17-21, 2003

Department of Commerce technology-sector leaders will convene a senior-level business development mission to Belfast, Northern Ireland (N.I.) and Dublin, Republic of Ireland (R.O.I.). The focus of the mission will be to help U.S. companies explore business opportunities in both Northern Ireland and the Republic of Ireland. The delegation will include approximately 10-15 U.S.-based senior executives of small, medium and large U.S. firms representing the information and communications technology (ICT) sector.

Recruitment closes on September 19, 2003.

FOR FURTHER INFORMATION CONTACT: Dr. Sujata S. Millick, Technology Administration, U.S. Department of Commerce, 1401 Constitution Avenue, NW., Washington, DC 20230, telephone 202-482-6804, fax 202-219-3310, or visit www.commerce.gov.

SUPPLEMENTARY INFORMATION:

Goals for the Mission

The Business Development Mission will further both U.S. commercial policy objectives and advance specific U.S. business interests in the ICT sector. It is focused on: introducing U.S. companies to the markets of Northern Ireland and the Republic of Ireland and promoting expanded commercial opportunities in these areas; assisting small and new-to-market U.S. firms in evaluating the market potential for their products and to gain an understanding of how to operate successfully in the markets of Northern Ireland and the Republic of Ireland; highlighting the accessibility of the market and the successes of U.S. businesses in the markets of Northern Ireland and the Republic of Ireland; and fostering dialogue between policy makers and academics in the technology arena in the United States, Northern Ireland, and the Republic of Ireland.

Scenario for the Mission

The Business Development Mission will provide participants with exposure to high-level business and government contacts and an understanding of market and technology trends and the commercial environment of Northern Ireland and the Republic of Ireland. U.S. Embassy and U.S. Consulate General officials will provide detailed briefings on the economic, commercial and political climates, and participants will receive individual counseling on their specific interests from local U.S. Commercial Service industry specialists. Meetings will be arranged as appropriate with senior government officials and potential business partners. Representational events also will be organized to provide mission participants with opportunities to meet Northern Ireland's and the Republic of Ireland's business and government representatives, as well as U.S. business people living and working in Northern Ireland and the Republic of Ireland.

The tentative trip itinerary is as follows:

Nov 16—Arrive Belfast, Northern Ireland; evening events and briefing

Nov 17—One-on-One Business Meetings in Belfast; group policy meetings

Nov 18—Business and Policy Meetings in Northern Ireland; Travel to Dublin, Republic of Ireland

Nov 19—One-on-One Business Meetings, group policy meetings, mission events, and briefings in Dublin

Nov 20—One-on-One Business Meetings, group policy meetings, mission events, and briefings in Dublin

Nov 21—Departure for the United States

The precise schedule will depend in part on the availability of local government and business officials and the specific goals of the mission participants.

Criteria for Participation of Companies

Recruitment

The recruitment of mission members will be conducted in an open and public manner utilizing Commercial Service Export Assistance Centers, International Trade Administration industry teams, and Technology Administration and National Telecommunications and Information Administration teams. Promotion will include publication of notice of the event in the Federal Register, direct mailing, e-mailing, broadcast fax, press releases to appropriate media, posting on the Commerce Department trade missions calendar— http://www.ita.doc.gov/doctm/tmcal.html—and other Internet websites, promotion at domestic exhibitions and conferences, and publicized announcements through a network of business organizations. Companies will be selected according to the criteria set out below. Approximately 10-15 companies will be selected.

Eligibility

Participating companies must be incorporated in the United States. A company is eligible to participate only if the products and/or services that it will promote (a) are manufactured or produced in the United States; or (b) if manufactured or produced outside the United States, are marketed under the name of a U.S. firm and have U.S. content representing at least 51 percent of the value of the finished good or service.

Selection Criteria

Company participation will be determined on the basis of:

• Level of seniority of designated company representatives and consistency of company's goals with the scope and desired outcome of the mission as described herein;

• Potential for business activity in Northern Ireland and the Republic of Ireland as applicable;

• Timely receipt of a completed application and participation agreement signed by a company officer and the participation fee; and

• Provision of adequate information on the company's products and/or services, and communication of the company's primary objectives to facilitate appropriate matching with potential business partners.

In addition, the Department may consider whether the company's overall business objectives, including those of any U.S. or overseas affiliates, are fully consistent with the mission's objectives. Any partisan political activities of an applicant, including political contributions, will be entirely irrelevant to the selection process.

Time Frame for Applications

Applications for the Business Development Mission to Northern Ireland and the Republic of Ireland will be made available on or around July 11, 2003. The fee to participate in the mission will be between $ 3,000.00 and $3,500.00 and will not cover travel, lodging, or incidental expenses. For additional information on the Business Development Mission or to obtain an application, businesspersons should be referred to Sujata S. Millick, Technology Administration, U.S. Department of Commerce, 202-482-6804. Applications should be submitted to the Office of International Technology, U.S. Department of Commerce, 1401 Constitution Avenue, NW., Room 4411, Washington, DC 20230, (or via facsimile at 202-219-3310) by September 19, 2003, in order to ensure sufficient time to obtain in-country appointments for applicants selected to participate in the mission. Applications received after that date will be considered only if space and scheduling constraints permit.

For Further Information Contact: Dr. Sujata S. Millick, U.S. Department of Commerce, telephone 202-482-6804.

Dated: July 2, 2003.
Ken Ferguson,
Acting Director, Office of International Technology, Technology Administration, Department of Commerce.

[FR Doc. 03-17306 Filed 7-8-03; 8:45 am]

BILLING CODE 3510-DR-P